DEPARTMENT OF THE INTERIOR

Bureau of Land Management

[MT-924-1430-HN-003E; MTM 88990, MTM 88991, MTM 88992, MTM 90001]

Public Notice—Jurisdiction Transfer as Required by the Crow Boundary Settlement Act of 1994; Montana

AGENCY: Bureau of Land Management, Interior.

ACTION: Notice.

SUMMARY: This document provides notification to the public and state and local governmental officials of the transfer of exclusive jurisdiction and administration of the surface estate of 20,861.73 acres of public lands from the Bureau of Land Management to the United States of America, Bureau of Indian Affairs in trust for the Crow Indian Tribe and shall be recognized as part of the Crow Indian Reservation.

FOR FURTHER INFORMATION CONTACT: Russell Sorensen, BLM Dillon Field Office, 1005 Selway Drive, Dillon, Montana 59725-9431, 406-683-8036. By virtue of the authority vested in the Secretary of the Interior pursuant to Section 5(d)(G) of the Crow Boundary Settlement Act of November 2, 1994, Public Law 103-444, it is ordered as follows:

1. Subject to valid existing rights, jurisdiction of the surface estate for the following described lands was transferred to the Bureau of Indian Affairs in trust for the Crow Indian Tribe on the dates listed below:

(a) February 27, 2001, Yellowstone County, Montana:

Principal Meridian, Montana

T. 3 S., R., 25 E.,

Sec. 36, lots 5 through 10, inclusive, E½E½, SW¼SE¼.

T. 2 S., R. 27 E.,

Sec. 36, All.

T. 3 S., R. 27 E.,

Sec. 16, All;

Sec. 36, All.

T. 1 S., R. 28 E.,

Sec. 4, S½, S½NW¼;

Sec. 16, All.

T. 4 S., R. 28 E.,

Sec. 1, lots 1 through 4, inclusive, S½N½, S½;

Sec. 4, lots 1 through 4, inclusive, S½N½, S½.

(b) February 27, 2001, Big Horn County, Montana

Principal Meridian, Montana

T. 7 S., R. 28 E.,

Sec. 8, S½NE¼, S½;

Sec. 9, S½NE¼, E½SW¼, SE¼;

Sec. 10, S½N½, S½.

T. 3 S., R. 30 E.,

Sec. 22, All;

Sec. 23, All.

T. 4 S., R. 30 E.,

Sec. 24, All.

T. 5 S., R. 30 E.,

Sec. 9, All.

T. 3 S., R. 31 E.,

Sec. 6, lots 1 through 7, inclusive, S½NE¼, SE¼NW¼, E½SW¼, SE¼;

Sec. 7, lots 1 through 4, inclusive, E½, E½W½.

T. 4 S., R. 31 E.,

Sec. 22, NE¼, SE¼;

Sec. 23, NE¼.

T. 5 S., R. 31 E.,

Sec. 3, lots 1 through 4, inclusive, S½N½, S½;

Sec. 21, N½, SW¼;

Sec. 28, NW¼.

T. 2 S., R., 32 E.,

Sec. 10, E½;

Sec. 11, W½, SE¼.

T. 6 S., R. 32 E.,

Sec. 1, N½S½.

T. 7 S., R., 32 E.,

Sec. 25, S½;

Sec. 26, SE¼;

Sec. 32, NE¼SW¼, S½SW¼, SE¼;

Sec. 36, NE¼.

T. 6 S., R. 33 E.,

Sec. 10, All;

Sec. 22, SE¼.

T. 7 S., R. 33 E.,

Sec. 29, S½;

Sec. 30, lots 3, 4.

T. 9 S., R. 33 E.,

Sec. 20, S½.

Sec. 30, lots 1 through 4, inclusive, E½W½, E½;

Sec. 31, lots 1, 2, E½NW¼, NE¼.

T. 6 S., R. 34 E.,

Sec. 15, S½;

Sec. 16, All.

T. 7 S., R. 34 E.,

Sec. 16, NW¼NW¼;

Sec. 36, All.

T. 8 S., R. 34 E.,

Sec. 12, S½;

Sec. 13, NW¼;

Sec. 14, SW¼, E½.

T. 9 S., R. 34 E.,

Sec. 16, SW¼SW¼, E½SE¼;

Sec. 18, NE¼, NE¼SE¼;

Sec. 20, S½NE¼, SE¼;

Sec. 21, NW¼NW¼, S½NW¼, E½, SW¼.

T. 6 S., R. 35 E.,

Sec. 8, E½;

Sec. 9, W½NW¼, W½SE¼, SW¼.

T. 7 S., R. 35 E.,

Sec. 36, lot 4.

T. 8 S., R. 35 E.,

Sec. 16, NE¼NW¼.

T. 7 S., R. 36 E.,

Sec. 13, NW¼.

T. 9 S., R. 36 E.,

Sec. 13, NE¼.

T. 8 S., R. 37 E.,

Sec. 16, NW¼SE¼, S½SE¼.

T. 7 S., R. 38 E.,

Sec. 1, lot 10, SW¼SW¼;

Sec. 2, S½SE¼;

Sec. 12, lots 5, 6.

(c) May 21, 2001, Yellowstone County, Montana

Principal Meridian, Montana

T. 4 S., R. 25 E.,

Sec. 16, lot 1.

The areas described aggregate 20,861.73 acres in Big Horn and Yellowstone Counties, Montana.

2. The transfer of the above described surface estate for such lands and all activities conducted thereon vests custody and accountability unto the United States of America, on behalf of the Bureau of Indian Affairs, in trust for the Crow Indian Tribe.

John E. Moorhouse,
Acting Deputy State Director, Division of Resources.

[FR Doc. 02-11431 Filed 5-8-02; 8:45 am]

BILLING CODE 4310-$8-P